DEPARTMENT OF DEFENSE

Office of the Secretary

Charter Renewal Department of Defense Federal Advisory Committees—Board on Coastal Engineering Research

AGENCY: Department of Defense (DoD).

ACTION: Federal advisory committee charter renewal.

SUMMARY: The DoD is publishing this notice to announce that it has renewed the charter for the Board on Coastal Engineering Research (BCER).

FOR FURTHER INFORMATION CONTACT: Jim Freeman, DoD Advisory Committee Management Officer, 703-692-5952.

SUPPLEMENTARY INFORMATION: The BCER charter is being renewed in accordance with chapter 10 of title 5, United States Code (U.S.C.) (commonly known as the “Federal Advisory Committee Act” or “FACA”) and 41 Code of Federal Regulations (CFR) 102-3.50(a). The charter and contact information for the BCER's Designated Federal Officer (DFO) are found at https://www.facadatabase.gov/FACA/apex/FACAPublicAgencyNavigation.

Pursuant to 33 U.S.C. 426-2, the BCER provides independent advice and recommendations on the functions of the Coastal Engineering Research Center (CERC). The BCER provides independent advice and recommendations on the work of the Coastal and Hydraulics Laboratory, which includes the CERC, on coastal engineering research priorities and additional functions as assigned by the Commanding General, U.S. Army Corps of Engineers (USACE) (“the Chief of Engineers”).

Pursuant to 33 U.S.C. 426, the BCER shall be composed of seven members. Four members of the BCER will be officers of the USACE and serve as ex-officio members with one position being occupied by the Deputy Commanding General for Civil and Emergency Operations, USACE for no fixed term of service. The remaining three BCER members shall be civilian engineers who are selected with regard to their special fitness in the field of beach erosion and shore protection. The Deputy Commanding General for Civil and Emergency Operations, USACE, shall serve as the President of the Board.

The appointment of the civilian BCER members and the three coastal division commanders shall be approved by the Secretary of Defense or the Deputy Secretary of Defense (the DoD Appointing Authority), for a term of service of one-to-four years, in accordance with DoD policy and procedures. BCER members who are not full-time or permanent part-time Federal civilian officers or employees, or active-duty members of the Uniformed Services, are appointed as experts or consultants, pursuant to 5 U.S.C. 3109, to serve as special government employee members (SGE). BCER members who are full-time or permanent part-time Federal civilian officers or employees, or active-duty members of the Uniformed Services are appointed pursuant to 41 CFR 102-3.130(a), to serve as regular government employee (RGE) members. No member, unless approved by the DoD Appointing Authority, may serve more than two consecutive terms of service on the BCER or serve on more than two DoD Federal advisory committees at one time.

All BCER members are appointed to provide advice on the basis of their best judgment without representing any particular point of view and in a manner that is free from conflict of interest. Pursuant to section 105 of Public Law 91-611, SGE members on the BCER may be paid at a rate not to exceed the daily equivalent of the rate for a GS-15, step 10, for each day of attendance at BCER meetings, not to exceed 30 days per year, in addition to travel and other necessary expenses connected with their official duties on the BCER, in accordance with the provisions of 5 U.S.C. 5703(b), (d), and 5707. RGE members may be reimbursed for official BCER-related travel and per diem.

The public or interested organizations may submit written statements about BCER mission and functions. Written statements may be submitted at any time or in response to a stated agenda of a planned meeting of the BCER. All written statements shall be submitted to the DFO for the BCER, and this individual will ensure that the written statements are provided to the membership for their consideration.

Dated: May 8, 2024.
Aaron T. Siegel,
Alternate OSD Federal Register Liaison Officer, Department of Defense.

[FR Doc. 2024-10478 Filed 5-13-24; 8:45 am]

BILLING CODE 6001-FR-P